DEPARTMENT OF AGRICULTURE

Submission for OMB Review; Comment Request

August 20, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 24, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: National Universal Product Code (NUPC) Database.

OMB Control Number: 0584-0552.

Summary of Collection: The Healthy, Hunger-Free Kids Act of 2010 directed the Secretary of Agriculture to establish a National Universal Product Code (NUPC) database to be used by all Women, Infants, and Children (WIC) State agencies as they implement Electronic Benefit Transfer (EBT) statewide, which is a requirement of the law. The NUPC database, which serves as an electronic repository of information about foods eligible under the Special Supplemental Nutrition Program for Women, Infants, and Children (WIC).

Need and Use of the Information: The NUPC database will provide all State agencies with access to a central repository containing product information about authorized WIC foods which is necessary to support State agency EBT for the WIC Program. State agencies are expected to use the NUPC database to create an initial list of authorized foods eligible for redemption by WIC Program participants. State agencies may use the NUPC database to maintain their list of authorized foods and to create an Authorized Product List for distribution to Authorized Vendors operating in the EBT environment.

Description of Respondents: State, Local, or Tribal Government; Business or other for-profit.

Number of Respondents: 360.

Frequency of Responses: Reporting: On occasion.

Total Burden Hours: 10,320.

Ruth Brown,
Departmental Information Collection Clearance Officer.

[FR Doc. 2018-18190 Filed 8-22-18; 8:45 am]

BILLING CODE 3410-30-P